FEDERAL COMMUNICATIONS COMMISSION

47 CFR Part 73

[MB Docket Nos. 17-264, 17-105, 05-6; FCC 20-65; MB Docket Nos. 19-193 and 17-105; FCC 20-53; MB Docket No. 19-3; FCC 19-127; FRS 17160]

Filing of Applications; Modernization of Media Regulation Initiative; Revision of the Public Notice Requirements; Low Power FM Radio Service Technical Rules; Reexamination of the Comparative Standards and Procedures for Licensing Noncommercial Educational Broadcast Stations and Low Power FM Stations

AGENCY: Federal Communications Commission.

ACTION: Final rule; announcement of effective date.

SUMMARY: In this document, the Federal Communications Commission (Commission) announces that the Office of Management and Budget (OMB) has approved, for a period of three years, the information collection requirements associated with the Second Report and Order of the Commission's Rules Regarding Public Notice of the Filing of Applications; the Report and Order in Low Power FM Radio Service Technical Rules; the Report and Order in Reexamination of the Comparative Standards and Procedures for Licensing of Noncommercial Educational Broadcast Stations and Low Power FM Stations. This document is consistent with the Report and Orders, which stated that the Commission would publish a document in the Federal Register announcing OMB approval and the effective date of the information collection requirements.

DATES: Rule changes to 47 CFR 73.3525, 73.3526, 73.3527, 73.3571, 73.3573, 73.3580, 73.3594, published at 85 FR 36786 on June 18, 2020; Rule changes to 47 CFR 73.816, 73.850, 73.870, published at 85 FR 35567 on June 11, 2020; and Rule changes to 47 CFR 73.865, 73.872, 73.7002(c), 73.7003, and 73.7005, published at 85 FR 7880 on February 12, 2020, are effective on October 30, 2020.

FOR FURTHER INFORMATION CONTACT: For additional information, contact Cathy Williams, Cathy.Williams@fcc.gov, (202) 418-2918.

SUPPLEMENTARY INFORMATION: This document announces that, on October 9, 2020, October 7, 2020, October 2, 2020 and September 24, 2020, OMB approved the information collection requirements contained in the Commission's Report and Order, FCC 20-65, published at 85 FR 36786, June 18, 2020, FCC 20-53, published at 85 FR 35567 on June 11, 2020 and FCC 19-127, published 85 FR 7880 on February 12, 2020. The OMB Control Numbers are 3060-0016, 3060-0213, 3060-1133, 3060-0214, 3060-0932, 3060-0920, 3060-0027, 3060-0029, 3060-0405, 3060-0110, 3060-0031 and 3060-0075. The Commission publishes this document as an announcement of the effective date of the information collection requirements.

Synopsis

As required by the Paperwork Reduction Act of 1995 (44 U.S.C. 3507), the FCC is notifying the public that it received OMB approval on October 9, 2020, October 7, 2020, October 2, 2020 and September 24, 2020 for the information collection requirements contained in the Commission's rules.

No person shall be subject to any penalty for failing to comply with a collection of information subject to the Paperwork Reduction Act that does not display a current, valid OMB Control Number. The OMB Control Numbers 3060-0016, 3060-0213, 3060-1133, 3060-0214, 3060-0932, 3060-0920, 3060-0027, 3060-0029, 3060-0405, 3060-0110, 3060-0031 and 3060-0075.

The foregoing notice is required by the Paperwork Reduction Act of 1995, Public Law 104-13, October 1, 1995, and 44 U.S.C. 3507.

The total annual reporting burdens and costs for the respondents are as follows:

OMB Control No.: 3060-0016.

OMB Approval Date: October 9, 2020.

OMB Expiration Date: October 31, 2023.

Title: FCC Form 2100, Application for Media Bureau Audio and Video Service Authorization, Schedule C (Former FCC Form 346); Sections 74.793(d) and 74.787, LPTV Out-of-Core Digital Displacement Application; Section 73.3700(g)(1)-(3), Post-Incentive Auction Licensing and Operations; Section 74.799, Low Power Television and TV Translator Channel Sharing.

Form No.: FCC Form 2100, Schedule C.

Respondents: Business or other for-profit entities; Not for profit institutions; State, local or Tribal government.

Number of Respondents and Responses: 4,460 respondents and 4,460 responses.

Estimated Time per Response: 2.5-7 hours.

Frequency of Response: One-time reporting requirement; on occasion reporting requirement; third party disclosure requirement.

Obligation To Respond: Required to obtain or retain benefits. The statutory authority for this collection is contained in Section 154(i), 303, 307, 308 and 309 of the Communications Act of 1934, as amended.

Total Annual Burden: 42,370 hours.

Annual Cost Burden: $23,026,757.

Privacy Act Impact Assessment: No impact(s).

Nature and Extent of Confidentiality: There is no need for confidentiality with this collection of information.

Needs and Uses: FCC Form 2100, Schedule C is used by licensees/permittees/applicants when applying for authority to construct or make changes in a Low Power Television, TV Translator or DTV Transition.

On May 12, 2020, the Commission adopted Amendment of Section 73.3580 of the Commission's Rules Regarding Public Notice of the Filing of Applications; Modernization of Media Regulation Initiative; Revision of the Public Notice Requirements of Section 73.3580, Second Report and Order, MB Docket Nos. 17-254, 17-105, & 05-6, FCC 20-65 (rel. May 13, 2020). The Commission adopted new, streamlined procedures for stations to provide public notice of the filing of certain applications. Stations, including stations filing for new construction permits or major modifications to facilities, that were previously required to post public notice in a local newspaper, must now post notice online, either on the station website or a website affiliated with the station, its licensee, or its parent entity, or else must post notice on a publicly accessible, locally targeted website, for 30 continuous days following acceptance of the application for filing.

This submission was made to OMB for approval of the modified third-party disclosure requirements for this Information Collection, as adopted in the 2020 Public Notice Second Report and Order. The changes pertaining to this Information Collection and to 47 CFR 73.3580 adopted in the 2020 Public Notice Second Report and Order do not necessitate changes to the Form 2100, Schedule C, nor do they affect the substance, burden hours, or costs of completing the forms. The rule changes do, however, reduce burdens and costs associated with filing the application.

OMB Control Number: 3060-0075.

OMB Approval Date: September 24, 2020.

OMB Expiration Date: September 30, 2023.

Title: Application for Transfer of Control of a Corporate Licensee or Permittee, or Assignment of License or Permit, for an FM or TV Translator Station, or a Low Power Television Station, FCC Form 345.

Respondents: Business or other for-profit entities; Not for profit institutions; Local or Tribal Government.

Number of Respondents and Responses: 1,700 respondents; 3,900 responses.

Estimated Time per Response: 0.075-1.25 hours.

Frequency of Response: Third party disclosure requirement and on occasion reporting requirement.

Total Annual Burden: 3,013 hours.

Total Annual Cost: $3,943,979.

Obligation To Respond: Required to obtain or retain benefits. The statutory authority for this collection of information is contained in Sections 154(i) and 310 of the Communications Act of 1934, as amended.

Nature and Extent of Confidentiality: There is no need for confidentiality with this collection of information.

Privacy Act Impact Assessment: No impact(s).

Needs and Uses: Filing of the FCC Form 345 is required when applying for authority for assignment of license or permit, or for consent to transfer of control of a corporate licensee or permittee for an FM or TV translator station, or low power TV station.

This collection also includes the third-party disclosure requirement of 47 CFR Section 73.3580 (OMB approval was received for Section 73.3580 under OMB Control Number 3060-0031). Section 73.3580, as amended in the Commission's 2020 Public Notice Second Report and Order, requires local public notice of the filing of all applications to assign or transfer control of a broadcast station authorization, including those of an FM or TV translator or booster station or LPTV station. Notice is given by an applicant posting notice of the application filing on its station website, its licensee website, its parent entity website, or on a publicly accessible, locally targeted website, for 30 consecutive days beginning within five business days of acceptance of the application for filing. The online notice must link to a copy of the application as filed in the Commission's LMS licensing database. Applicants for assignment or transfer of control of a low-power television (LPTV) station that locally originates programming must also make a total of six on-air announcements giving notice that their applications have been accepted for filing.

On May 12, 2020, the Commission adopted Amendment of Section 73.3580 of the Commission's Rules Regarding Public Notice of the Filing of Applications; Modernization of Media Regulation Initiative; Revision of the Public Notice Requirements of Section 73.3580, Second Report and Order, MB Docket Nos. 17-254, 17-105, & 05-6, FCC 20-65 (rel. May 13, 2020). The Commission adopted new, streamlined procedures for stations to provide public notice of the filing of certain applications. Applicants, including applicants for assignment or transfer of control of authorizations for FM or TV translators or LPTV stations, that were previously required to post public notice in a local newspaper, must now post notice online, either on the station website or a website affiliated with the station, its licensee, or its parent entity, or else must post notice on a publicly accessible, locally targeted website, for 30 continuous days following acceptance of the application for filing. Stations that are required to make on-air announcements of the filing of certain applications, including an applicant for assignment or transfer of control of an LPTV station that locally originates programming, must continue to do so, but the announcements are shorter and direct viewers and listeners to the application as filed and displayed in either the station's Online Public Inspection File or another Commission database. A total of six on-air announcements are required, at least one per week and no more than one per day or two per week, to be broadcast between 7:00 a.m. and 11:00 p.m. local time, Monday through Friday, beginning after the application is accepted for filing.

This submission was made to OMB for approval of the modified third-party disclosure requirements for this Information Collection, as adopted in the 2020 Public Notice Second Report and Order. The changes pertaining to this Information Collection and to 47 CFR 73.3580 adopted in the 2020 Public Notice Second Report and Order do not necessitate changes to the Form 345, nor do they affect the substance, burden hours, or costs of completing the forms. The rule changes do, however, reduce burdens and costs associated with filing the application.

OMB Control No.: 3060-0027.

OMB Approval Date: October 2, 2020.

OMB Expiration Date: October 31, 2023.

Title: Application for Construction Permit for Commercial Broadcast Station, FCC Form 301; Form 2100, Schedule A—Application for Media Bureau Video Service Authorization; 47 Sections 73.3700(b)(1) and (b)(2) and Section 73.3800, Post Auction Licensing; Form 2100, Schedule 301-FM—Commercial FM Station Construction Permit Application.

Form No.: FCC Form 2100, Schedule A, FCC Form 301, FCC Form 2100, Schedule 301-FM.

Respondents: Business or other for-profit entities; Not for profit institutions; State, local or Tribal Government.

Number of Respondents and Responses: 3,092 respondents and 4,199 responses.

Estimated Time per Response: 0.075 hours-6.25 hours.

Frequency of Response: One-time reporting requirement; On occasion reporting requirement; Third party disclosure requirement.

Obligation To Respond: Required to obtain or retain benefits. The statutory authority for this collection is contained in Sections 154(i), 303 and 308 of the Communications Act of 1934, as amended.

Total Annual Burden: 12,435 hours.

Annual Cost Burden: $62,308,388.

Privacy Act Impact Assessment: No impact(s).

Nature and Extent of Confidentiality: There is no need for confidentiality with this collection of information.

Needs and Uses: On May 12, 2020, the Commission adopted Amendment of Section 73.3580 of the Commission's Rules Regarding Public Notice of the Filing of Applications; Modernization of Media Regulation Initiative; Revision of the Public Notice Requirements of Section 73.3580, Second Report and Order, MB Docket Nos. 17-254, 17-105, & 05-6, FCC 20-65 (rel. May 13, 2020). The Commission adopted new, streamlined procedures for stations to provide public notice of the filing of certain applications. Stations, including stations filing for new construction permits or major modifications to facilities, that were previously required to post public notice in a local newspaper, must now post notice online, either on the station website or a website affiliated with the station, its licensee, or its parent entity, or else must post notice on a publicly accessible, locally targeted website, for 30 continuous days following acceptance of the application for filing. Stations that are required to make on-air announcements of the filing of certain applications, must continue to do so, but the announcements are shorter and direct viewers and listeners to the application as filed and displayed in either the station's Online Public Inspection File or another Commission database. A total of six on-air announcements are required, at least one per week and no more than one per day or two per week, to be broadcast between 7:00 a.m. and 11:00 p.m. local time, Monday through Friday, beginning after the application is accepted for filing.

This submission was made to OMB for approval of the modified third-party disclosure requirements for this Information Collection, as adopted in the 2020 Public Notice Second Report and Order. The changes pertaining to this Information Collection and to 47 CFR 73.3580 and 47 CFR 73.3594 adopted in the 2020 Public Notice Second Report and Order, do not necessitate changes to the Schedule 301, nor do they affect the substance, burden hours, or costs of completing the forms. The rule changes do, however, reduce burdens and costs associated with filing the application. 47 CFR 73.3571(j)(3) and 73.3573(g)(3) require that applicants must comply with the local public notice provisions of § 73.3580(c)(5).

OMB Control Number: 3060-0029.

OMB Approval Date: October 2, 2020.

OMB Expiration Date: October 31, 2023.

Title: FCC Form 2100, Schedule 340, Noncommercial Educational Station for Reserved Channel Construction Permit Application.

Form Number: FCC Form 2100, Schedule 340.

Respondents: Business or other for-profit entities, not for profit institutions and State, local or Tribal Government.

Number of Respondents and Responses: 2,820 respondents; 2,820 responses.

Estimated Time per Response: 0.5 hours-6 hours.

Frequency of Response: On occasion reporting requirement and Third party disclosure requirement.

Obligation To Respond: Required to obtain or retain benefits. The statutory authority for this collection is contained in Sections 154(i), 303 and 308 of the Communications Act of 1934, as amended.

Total Annual Burden: 6,603 hours.

Total Annual Cost: $30,039,119.

Privacy Act Impact Assessment: No impact(s).

Nature and Extent of Confidentiality: There is no need for confidentiality with this collection of information.

Needs and Uses: This submission was made to the Office of Management (OMB) for the approval of information collection requirements contained in the Commission's Reexamination of the Comparative Standards and Procedures for Licensing Noncommercial Educational Broadcast Stations and Low Power FM Stations, Report and Order, FCC 19-127, 34 FCC Rcd 12519 (2019) (NCE LPFM Report and Order), adopted December 10, 2019, and released on December 11, 2019, where the Commission revised its rules and procedures for considering competing applications for new and major modifications to noncommercial educational full-service FM and full-power television (NCE), and low power FM (LPFM) broadcast stations. The changes are designed to improve the comparative selection and licensing procedures, expedite the initiation of new service to the public, eliminate unnecessary applicant burdens, and reduce the number of appeals of NCE comparative licensing decisions.

First, to improve the NCE comparative process, the NCE LPFM Report and Order: (1) Eliminates the governing document requirements for established local applicants and applicants claiming diversity points; (2) establishes a uniform divestiture pledge policy; (3) expands the tie-breaker criteria and revises the procedures for allocating time in mandatory time-sharing situations; and (4) clarifies and modifies the “holding period” rule.

Second, the NCE LPFM Report and Order adopts the following changes to the LPFM comparative process: (1) Prohibits amendments that attempt to cure past unauthorized station violations; (2) authorizes time-sharing discussions prior to tentative selectee designations; and (3) establishes procedures for remaining tentative selectees following dismissal of point aggregation time-share agreements.

Third, the NCE LPFM Report and Order adopts the following general changes: (1) Defines which applicant board changes are major changes; (2) clarifies the reasonable site assurance requirements; (3) streamlines construction deadline tolling procedures and notification requirements; (4) lengthens the LPFM construction period; and (5) eliminates restrictions on the assignment and transfer of LPFM authorizations.

Specifically, pertaining to this Information Collection and NCE stations, the Commission is revising the relevant rules, 47 CFR 73.7002, 73.7003, and 73.7005, the form, and corresponding instructions, as follows:

(1) Changing all former references to “holding period” to “maintenance of comparative qualifications.” During the four-year “maintenance of comparative qualifications” period, an NCE station receiving a decisive preference for fair distribution of service, in accordance with the provisions of 47 CFR 73.7002, must certify that any technical modification to its authorized facilities satisfies the technical requirements of 47 CFR 73.7005(b).

(2) Adding an “Established Local Applicant Pledge,” requiring an applicant to pledge to maintain localism characteristics during the four-year maintenance of comparative qualifications period, if the applicant certifies that it qualifies for points as an “established local applicant” in the Point System Factors of 47 CFR 73.7003.

(3) Adding a “Diversity Pledge,” requiring an applicant to pledge to comply with all of the restrictions on station modifications and acquisitions (as defined in 47 CFR 73.7005) during the four-year maintenance of comparative qualifications period, if the applicant certifies that it qualifies for “local diversity of ownership” points in the Point System Factors of 47 CFR 73.7003.

(4) Modifying the divestiture sub-question certification, to reflect the new divestiture policies, in the Diversity of Ownership question in the Point System Factors Section.

(5) Adding a new question in the Tie Breakers section of the form, reflecting the new third tie-breaker criterion of 47 CFR 73.7003(c)(3).

(6) Adding a new question in the Tie Breakers Section of the form, requiring the applicant to provide its initial date of establishment.

(7) Adding a Reasonable Site Assurance Certification in the Technical Certifications Section of the form, requiring the applicant to certify that it has obtained reasonable assurance from the tower owner or authorized representative, that its specified site will be available.

The revisions to the relevant rules, and the changes to the questions in Schedule 340 listed above affect the substance, burden hours, and costs of completing the Schedule 340. Therefore, this submission was made to OMB for approval of revised Information Collection requirements.

On May 12, 2020, the Commission adopted Amendment of Section 73.3580 of the Commission's Rules Regarding Public Notice of the Filing of Applications; Modernization of Media Regulation Initiative; Revision of the Public Notice Requirements of Section 73.3580, Second Report and Order, MB Docket Nos. 17-254, 17-105, & 05-6, FCC 20-65 (rel. May 13, 2020). The Commission adopted new, streamlined procedures for stations to provide public notice of the filing of certain applications. Stations, including stations filing for new construction permits or major modifications to facilities, that were previously required to post public notice in a local newspaper, must now post notice online, either on the station website or a website affiliated with the station, its licensee, or its parent entity, or else must post notice on a publicly accessible, locally targeted website, for 30 continuous days following acceptance of the application for filing. Stations that are required to make on-air announcements of the filing of certain applications, must continue to do so, but the announcements are shorter and direct viewers and listeners to the application as filed and displayed in either the station's Online Public Inspection File or another Commission database. A total of six on-air announcements are required, at least one per week and no more than one per day or two per week, to be broadcast between 7:00 a.m. and 11:00 p.m. local time, Monday through Friday, beginning after the application is accepted for filing.

This submission was made to OMB for approval of the modified third-party disclosure requirements for this Information Collection, as adopted in the 2020 Public Notice Second Report and Order. The changes pertaining to this Information Collection and to 47 CFR 73.3580 adopted in the 2020 Public Notice Second Report and Order, do not necessitate changes to the Schedule 340, nor do they affect the substance, burden hours, or costs of completing the forms. The rule changes do, however, reduce burdens and costs associated with filing the application.

Control Number: 3060-0031.

OMB Approval Date: September 24, 2020.

OMB Expiration Date: September 30, 2023.

Title: Application for Consent to Assignment of Broadcast Station Construction Permit or License, FCC Form 314; Application for Consent to Transfer Control of Entity Holding Broadcast Station Construction Permit or License, FCC Form 315; Section 73.3580, Local Public Notice of Filing of Broadcast Applications.

Form Number: FCC Forms 314 and 315.

Respondents: Business or other for-profit entities; Not-for-profit institutions; State, local or Tribal government.

Number of Respondents and Responses: 4,920 respondents and 13,160 responses.

Estimated Time per Response: 0.075 to 7 hours.

Frequency of Response: On occasion reporting requirement; Third party disclosure requirement.

Obligation To Respond: Required to obtain or retain benefits. Statutory authority for this collection of information is contained in Sections 154(i), 303(b) and 308 of the Communications Act of 1934, as amended.

Total Annual Burden: 17,159 hours.

Total Annual Cost: $51,493,759.

Privacy Impact Assessment(s): No impacts.

Nature and Extent of Confidentiality: There is no need for confidentiality and respondents are not being asked to submit confidential information to the Commission.

Needs and Uses: This submission was made to the Office of Management (OMB) for the approval of information collection requirements contained in the Commission's Reexamination of the Comparative Standards and Procedures for Licensing Noncommercial Educational Broadcast Stations and Low Power FM Stations, Report and Order, FCC 19-127, 34 FCC Rcd 12519 (2019) (NCE LPFM Report and Order), adopted December 10, 2019, and released on December 11, 2019, where the Commission revised its rules and procedures for considering competing applications for new and major modifications to noncommercial educational full-service FM and full-power television (NCE), and low power FM (LPFM) broadcast stations. The changes are designed to improve the comparative selection and licensing procedures, expedite the initiation of new service to the public, eliminate unnecessary applicant burdens, and reduce the number of appeals of NCE comparative licensing decisions.

First, to improve the NCE comparative process, the NCE LPFM Report and Order: (1) Eliminates the governing document requirements for established local applicants and applicants claiming diversity points; (2) establishes a uniform divestiture pledge policy; (3) expands the tie-breaker criteria and revises the procedures for allocating time in mandatory time-sharing situations; and (4) clarifies and modifies the “holding period” rule.

Second, the NCE LPFM Report and Order adopts the following changes to the LPFM comparative process: (1) Prohibits amendments that attempt to cure past unauthorized station violations; (2) authorizes time-sharing discussions prior to tentative selectee designations; and (3) establishes procedures for remaining tentative selectees following dismissal of point aggregation time-share agreements.

Third, the NCE LPFM Report and Order adopts the following general changes: (1) Defines which applicant board changes are major changes; (2) clarifies the reasonable site assurance requirements; (3) streamlines construction deadline tolling procedures and notification requirements; (4) lengthens the LPFM construction period; and (5) eliminates restrictions on the assignment and transfer of LPFM authorizations.

Specifically, pertaining to this Information Collection and NCE and LPFM stations, the Commission is removing the restrictive LPFM station three-year “holding period” certification from CDBS Forms 314 and 315, and revising the relevant rules, 47 CFR 73.865 and 73.7005, the forms, and corresponding instructions, as follows:

(1) Changing all references to “holding period” to “maintenance of comparative qualifications,” and requiring NCE stations awarded by the point system to certify satisfying the four-year “maintenance of comparative qualifications” period;

(2) requiring LPFM applicants to certify that it has been at least 18 months since the station's initial construction permit was granted in accordance with 47 CFR 73.865(c);

(3) requiring LPFM applicants to certify that the assignment/transfer of the LPFM authorization satisfies the consideration restrictions of 47 CFR 73.865(a)(1);

(4) requiring LPFM authorizations awarded by the LPFM comparative point system, to indicate whether the LPFM station has operated on-air for at least four years since grant;

(5) requiring NCE applicants to certify that the proposed acquisition comports with 47 CFR 73.7005(c) diversity requirements, based on any “diversity of ownership” points awarded in an NCE points system analysis.

Moreover, the NCE LPFM Report and Order will increase the number of applicants eligible to file FCC Forms 314 and 315 by eliminating both the absolute prohibition on the assignment/transfer of LPFM construction permits and the three-year holding period restriction on assigning LPFM licenses. The elimination of these restrictions will benefit the LPFM service by increasing the likelihood that LPFM permits will be constructed, provide new service to communities, and help make the LPFM stations more viable.

On May 12, 2020, the Commission adopted Amendment of Section 73.3580 of the Commission's Rules Regarding Public Notice of the Filing of Applications; Modernization of Media Regulation Initiative; Revision of the Public Notice Requirements of Section 73.3580, Second Report and Order, MB Docket Nos. 17-254, 17-105, & 05-6, FCC 20-65 (rel. May 13, 2020). The Commission adopted new, streamlined procedures for stations to provide public notice of the filing of certain applications. Stations, including commercial stations filing assignment and transfer applications, that were previously required to post public notice in a local newspaper, must now post notice online either on the station website or a website affiliated with the station, its licensee, or its parent entity, or else must post notice on a publicly accessible, locally targeted website, for 30 continuous days following acceptance of the application for filing. Stations, including those filing assignment and transfer applications, that are required to make on-air announcements of the filing of certain applications, must continue to do so, but the announcements are shorter and direct viewers and listeners to the application as filed and displayed in either the station's Online Public Inspection File or another Commission database. A total of six on-air announcements are required, at least one per week and no more than one per day or two per week, to be broadcast between 7:00 a.m. and 11:00 p.m. local time, Monday through Friday, beginning after the application is accepted for filing.

This submission was made to OMB for approval of the modified third-party disclosure requirements for this Information Collection, as adopted in the 2020 Public Notice Second Report and Order. The changes pertaining to this Information Collection and to 47 CFR 73.3580 adopted in the 2020 Public Notice Second Report and Order, do not necessitate changes to the Forms 314 or 315, nor do they affect the substance, burden hours, or costs of completing the forms. The rule changes do, however, reduce burdens and costs associated with filing the application.

OMB Control Number: 3060-0110.

OMB Approval Date: September 24, 2020.

OMB Expiration Date: September 30, 2023.

Title: FCC Form 2100, Application for Renewal of Broadcast Station License, LMS Schedule 303-S.

Form Number: FCC 2100, LMS Schedule 303-S.

Respondents: Business or other for-profit entities; Not for profit institutions; State, Local or Tribal Governments.

Number of Respondent and Responses: 5,126 respondents, 5,126 responses.

Obligation To Respond: Required to obtain or retain benefits. The statutory authority for this collection of information is contained in Sections 154(i), 303, 307 and 308 of the Communications Act of 1934, as amended, and Section 204 of the Telecommunications Act of 1996.

Estimated Time per Response: 0.5 hours-12 hours.

Frequency of Response: Every eight-year reporting requirement; Third party disclosure requirement.

Total Annual Burden: 14,868 hours.

Total Annual Costs: $3,994,164.

Obligation of Response: Required to obtain or retain benefits. The statutory authority for the collection is contained Sections 154(i), 303, 307 and 308 of the Communications Act of 1934, as amended, and Section 204 of the Telecommunications Act of 1996.

Nature and Extent of Confidentiality: There is no need for confidentiality with this information collection.

Privacy Act Impact Assessment: No impact(s).

Needs and Uses: On May 12, 2020, the Commission adopted Amendment of Section 73.3580 of the Commission's Rules Regarding Public Notice of the Filing of Applications; Modernization of Media Regulation Initiative; Revision of the Public Notice Requirements of Section 73.3580, Second Report and Order, MB Docket Nos. 17-254, 17-105, & 05-6, FCC 20-65 (rel. May 13, 2020). The Commission adopted new, streamlined procedures for stations to provide public notice of the filing of certain applications. Some stations that were previously required to post public notice in a local newspaper, must now post notice online, either on the station website or a website affiliated with the station, its licensee, or its parent entity, or else must post notice on a publicly accessible, locally targeted website, for 30 continuous days following acceptance of the application for filing. Stations that are required to make on-air announcements of the filing of certain applications, including applications for the renewal of broadcast licenses, must continue to do so, but the announcements are shorter and direct viewers and listeners to the application as filed and displayed in either the station's Online Public Inspection File or another Commission database. A total of six on-air announcements are required, at least one per week and no more than one per day or two per week, to be broadcast between 7:00 a.m. and 11:00 p.m. local time, Monday through Friday, beginning after the application is accepted for filing. The Commission also clarified low-power FM (LPFM) stations' obligations to provide local public notice, and amended section 73.801 of the rules (47 CFR 73.801, listing FCC rules that apply to the LPFM service) to include the local public notice rule, 47 CFR 73.3580.

This submission was made to OMB for approval of the modified third-party disclosure requirements for this Information Collection, as adopted in the 2020 Public Notice Second Report and Order. The changes pertaining to this Information Collection and to 47 CFR 73.3580 adopted in the 2020 Public Notice Second Report and Order, do not necessitate changes to Schedule 303-S, nor do they affect the substance, burden hours, or costs of completing the forms. The rule changes do, however, reduce burdens and costs associated with filing the application.

OMB Control Number: 3060-0213.

OMB Approval Date: October 9, 2020.

OMB Expiration Date: October 31, 2023.

Title: Section 73.3525, Agreements for Removing Application Conflicts.

Form Number: N/A.

Respondents: Business or other for-profit entities; Not for profit institutions.

Number of Respondents and Responses: 38 respondents; 38 responses.

Estimated Time per Response: 1 hour.

Frequency of Response: On occasion reporting requirement; Third party disclosure requirement.

Total Annual Burden: 38 hours.

Total Annual Cost: $91,200.

Nature and Extent of Confidentiality: There is no need for confidentiality with this collection of information.

Obligation to Respond: Required to obtain or retain benefits. The statutory authority for this collection of information is contained in Sections 154(i) and 311 of the Communications Act of 1934, as amended.

Privacy Impact Assessment: No impact(s).

Needs and Uses: The Commission is submitting this revision to the Office of Management and Budget for approval to remove the information collection requirements, annual burden hours and annual cost contained in this collection for 47 CFR 73.3535(b). The Commission removed this rule section when it adopted the Amendment of Section 73.3580 of the Commission's Rules Regarding Public Notice of the Filing of Applications, MB Docket No. 17-264, FCC 20-65 on May 12, 2020.

The following information collection requirements remain in this collection: 47 CFR 73.3525 states (a) except as provided in § 73.3523 regarding dismissal of applications in comparative renewal proceedings, whenever applicants for a construction permit for a broadcast station enter into an agreement to procure the removal of a conflict between applications pending before the FCC by withdrawal or amendment of an application or by its dismissal pursuant to § 73.3568, all parties thereto shall, within 5 days after entering into the agreement, file with the FCC a joint request for approval of such agreement. The joint request shall be accompanied by a copy of the agreement, including any ancillary agreements, and an affidavit of each party to the agreement setting forth:

(1) The reasons why it is considered that such agreement is in the public interest;

(2) A statement that its application was not filed for the purpose of reaching or carrying out such agreement;

(3) A certification that neither the applicant nor its principals has received any money or other consideration in excess of the legitimate and prudent expenses of the applicant; Provided That this provision shall not apply to bona fide merger agreements;

(4) The exact nature and amount of any consideration paid or promised;

(5) An itemized accounting of the expenses for which it seeks reimbursement; and

(6) The terms of any oral agreement relating to the dismissal or withdrawal of its application.

OMB Control Number: 3060-0214.

OMB Approval Date: October 7, 2020.

OMB Expiration Date: October 31, 2023.

Title: Sections 73.3526 and 73.3527, Local Public Inspection Files; Sections 73.1212, 76.1701 and 73.1943, Political Files.

Form Number: N/A.

Respondents: Business or other for profit entities; Not for profit institutions; State, Local or Tribal government; Individuals or households.

Number of Respondents and Responses: 23,984 respondents; 62,839 responses.

Estimated Time per Response: 1-52 hours.

Frequency of Response: On occasion reporting requirement, Recordkeeping requirement, Third party disclosure requirement.

Obligation to Respond: Required to obtain or retain benefits. Statutory authority for these collections is contained in Sections 151, 152, 154(i), 303, 307 and 308 of the Communications Act of 1934, as amended.

Total Annual Burden: 2,043,805 hours.

Total Annual Cost: None.

Privacy Impact Assessment: The Commission prepared a system of records notice (SORN), FCC/MB-2, “Broadcast Station Public Inspection Files,” that covers the PII contained in the broadcast station public inspection files located on the Commission's website. The Commission will revise appropriate privacy requirements as necessary to include any entities and information added to the online public file in this proceeding.

Nature and Extent of Confidentiality: Most of the documents comprising the public file consist of materials that are not of a confidential nature. Respondents complying with the information collection requirements may request that the information they submit be withheld from disclosure. If confidentiality is requested, such requests will be processed in accordance with the Commission's rules, 47 CFR 0.459.

In addition, the Commission has adopted provisions that permit respondents subject to the information collection requirement for Shared Service Agreements to redact confidential or proprietary information from their disclosures.

Needs and Uses: On May 12, 2020, the Commission adopted Amendment of Section 73.3580 of the Commission's Rules Regarding Public Notice of the Filing of Applications; Modernization of Media Regulation Initiative; Revision of the Public Notice Requirements of Section 73.3580, Second Report and Order, MB Docket Nos. 17-254, 17-105, & 05-6, FCC 20-65 (rel. May 13, 2020). The Commission adopted new, streamlined procedures for stations to provide public notice of the filing of certain applications. Stations, including stations filing for new construction permits or major modifications to facilities, that were previously required to post public notice in a local newspaper, must now post notice online, either on the station website or a website affiliated with the station, its licensee, or its parent entity, or else must post notice on a publicly accessible, locally targeted website, for 30 continuous days following acceptance of the application for filing. Stations that are required to make on-air announcements of the filing of certain applications, must continue to do so, but the announcements are shorter and direct viewers and listeners to the application as filed and displayed in either the station's Online Public Inspection File or another Commission database. A total of six on-air announcements are required, at least one per week and no more than one per day or two per week, to be broadcast between 7:00 a.m. and 11:00 p.m. local time, Monday through Friday, beginning after the application is accepted for filing.

This submission was made to OMB for approval of the modified third-party disclosure requirements for this Information Collection, as adopted in the 2020 Public Notice Second Report and Order. The modified information collection requirements, revising rules 47 CFR 73.3526(e)(13) and 47 CFR 73.3527(e)(10) covering local public notice announcements, are as follows:

47 CFR 73.3526(e)(13)—Local public notice announcements. Each applicant for renewal of license shall, within 7 days of the last day of broadcast of the local public notice of filing announcements required pursuant to § 73.3580(c)(3), place in the station's online public inspection file a statement certifying compliance with this requirement. The dates and times that the on-air announcements were broadcast shall be made part of the certifying statement. The certifying statement shall be retained in the public file for the period specified in § 73.3580(e)(2) (for as long as the application to which it refers).

47 CFR 73.3527(e)(10)—Local public notice announcements. Each applicant for renewal of license shall, within 7 days of the last day of broadcast of the local public notice of filing announcements required pursuant to § 73.3580(c)(3), place in the station's online public inspection file a statement certifying compliance with this requirement. The dates and times that the on-air announcements were broadcast shall be made part of the certifying statement. The certifying statement shall be retained in the public file for the period specified in § 73.3580(e)(2) (for as long as the application to which it refers).

OMB Control Number: 3060-0405.

OMB Approval Date: October 2, 2020.

OMB Expiration Date: October 31, 2023.

Title: Form 2100, Schedule 349—FM Translator or FM Booster Station Construction Permit Application.

Form Number: FCC Form 2100, Schedule 349.

Respondents: Business or other for-profit entities; State, Local or Tribal Government; Not-for-profit institutions.

Number of Respondents and Responses: 1,250 respondents; 3,750 responses.

Estimated Time per Response: 0.5 hours-1.5 hours.

Frequency of Response: On occasion reporting requirement; Third party disclosure requirement.

Obligation to Respond: Required to obtain or retain benefits. The statutory authority for this information collection is contained in Sections 154(i), 303 and 308 of the Communications Act of 1934, as amended.

Total Annual Burden: 4,050 hours.

Total Annual Cost: $4,447,539.

Privacy Act Impact Assessment: No impact(s).

Nature and Extent of Confidentiality: There is no need for confidentiality with this information collection.

Needs and Uses: On May 12, 2020, the Commission adopted Amendment of Section 73.3580 of the Commission's Rules Regarding Public Notice of the Filing of Applications; Modernization of Media Regulation Initiative; Revision of the Public Notice Requirements of Section 73.3580, Second Report and Order, MB Docket Nos. 17-254, 17-105, & 05-6, FCC 20-65 (rel. May 13, 2020). The Commission adopted new, streamlined procedures for stations to provide public notice of the filing of certain applications. Stations, including stations filing for new construction permits or major modifications to facilities, that were previously required to post public notice in a local newspaper, must now post notice online, either on the station website or a website affiliated with the station, its licensee, or its parent entity, or else must post notice on a publicly accessible, locally targeted website, for 30 continuous days following acceptance of the application for filing.

This submission was made to OMB for approval of the modified third-party disclosure requirements for this Information Collection, as adopted in the 2020 Public Notice Second Report and Order. The changes pertaining to this Information Collection and to 47 CFR 73.3580 adopted in the 2020 Public Notice Second Report and Order, do not necessitate changes to the Schedule 349, nor do they affect the substance, burden hours, or costs of completing the forms. The rule changes do, however, reduce burdens and costs associated with filing the application.

In April 2020, the Commission adopted a Report and Order making certain changes to the LPFM technical rules, to improve reception and increase flexibility while maintaining interference protection and the core LPFM goals of diversity and localism. Amendments of Parts 73 and 74 to Improve the Low Power FM Radio Service Technical Rules; Modernization of Media Regulation Initiative, Report and Order, MB Docket Nos. 19-193, 17-105, FCC 20-53 (rel. Apr. 23, 2020) (2020 Technical Report and Order).

LPFM stations provide a secondary, noncommercial radio service with a community focus. The Commission originally designed LPFM engineering requirements to be simple so that non-profit organizations with limited engineering expertise and small budgets could readily apply for, construct, and operate community-oriented stations serving highly localized areas. LPFM organizations suggested that the service has matured and requires additional engineering options to improve reception. Thus, the 2020 Technical Report and Order adopted the following rules: Allow expanded LPFM use of directional antennas. All LPFM stations may use directional facilities, with either off-the-shelf or composite antennas, upon a satisfactory engineering showing. Such antennas could improve service near international borders by allowing LPFM stations to serve more listeners in the United States while continuing to protect Mexican and Canadian stations.

Redefine “Minor Changes” for LPFM stations. An LPFM station may apply for approval to relocate its transmitter site without awaiting a filing window if the change is “minor,” redefined in the 2020 Technical Report and Order as a move of 11.2 kilometers or less. The 2020 Technical Report and Order also allowed proposals of greater distances to qualify as minor if the existing and proposed service contours overlap.

Permit LPFM Use of FM Booster Stations. FM booster stations amplify and retransmit a station's signal. The 2020 Technical Report and Order amended rules that had prohibited LPFM stations from operating booster stations, allowing LPFM stations to operate an FM booster in lieu of an FM translator when a booster would better address unique terrain challenges.

Allow Shared Emergency Alert System (EAS) Equipment. Co-owned, co-located radio stations can share EAS equipment, but this option was not available to LPFM stations because they cannot be co-owned. The 2020 Technical Report and Order permitted co-located LPFM stations (particularly those in time-share arrangements) to share an EAS decoder pursuant to an agreement for common access as well as common responsibility for any EAS rule violations, thus potentially reducing costs.

Facilitate Waivers of Requirement to Protect Television Stations Operating on Channel 6. Stations on the part of the FM band reserved for NCE use must currently protect adjacent television stations on Channel 6 (TV6). The 2020 Technical Report and Order deferred to a future proceeding consideration of a proposal to eliminate the protection of digital television stations operating on TV6. The 2020 Technical Report and Order stated that until such a proceeding is resolved, the Commission will accept FM proposals that are short-spaced to TV6 if the FM applicant demonstrates no interference. Alternatively, the 2020 Technical Report and Order added language to the rules allowing reserved band radio stations to provide an agreement indicating the concurrence of all potentially affected digital TV6 stations.

Miscellaneous Changes. The 2020 Technical Report and Order added language to 47 CFR 73.850 requiring LPFM stations to notify the Commission if they are silent for ten days and to seek authority for silent periods over 30 days, as required for all other broadcasters, thus codifying a longstanding policy that the Bureau already applies to the LPFM service that allows it to identify and assist LPFM stations at risk of losing their licenses automatically under section 312(g) of the Communications Act.

Specifically, pertaining to this Information Collection and FM Booster (and LPFM) stations, the Commission is revising the form, the corresponding instructions, and the information collection as follows:

(1) Permitting LPFM licensees to own and operate FM Booster stations. The 2020 Technical Report and Order will increase the number of applicants eligible to file LMS Schedule 349 by eliminating the absolute prohibition on the cross-ownership of FM Booster stations by LPFM licenses. The overall number of respondents may increase because these rule changes expand the universe of applicants eligible to apply for an FM Booster station construction permit. Therefore, this submission was made to OMB for approval of revised Information Collection requirements.

OMB Control Number: 3060-0920.

OMB Approval Date: October 2, 2020.

OMB Expiration Date: October 31, 2023.

Title: Form 2100, Schedule 318—Low Power FM Station Construction Permit Application; Report and Order in MM Docket No. 99-25 Creation of Low Power Radio Service; Sections 73.801, 73.807, 73.809, 73.810, 73.816, 73.827, 73.850, 73.865, 73.870, 73.871, 73.872, 73.877, 73.878, 73.318, 73.1030, 73.1207, 73.1212, 73.1300, 73.1350, 73.1610, 73.1620, 73.1750, 73.1943, 73.3525, 73.3550, 73.3598, 11.61(ii).

Form No.: Form 2100, Schedule 318.

Respondents: Not-for-profit institutions; State, local or Tribal governments.

Number of Respondents and Responses: 24,606 respondents with multiple responses; 31,324 responses.

Estimated Time per Response: .0025-12 hours.

Frequency of Response: Recordkeeping requirement; On occasion reporting requirement; Monthly reporting requirement; Third party disclosure requirement.

Obligation To Respond: Required to obtain or retain benefits. The statutory authority for this collection of information is contained in sections 154(i), 303, 308 and 325(a) of the Communications Act of 1934, as amended.

Total Annual Burden: 52,889 hours.

Total Annual Costs: $1,229,370.

Privacy Act Impact Assessment: This information collection does not affect individuals or households; thus, there are no impacts under the Privacy Act.

Nature and Extent of Confidentiality: There is no need for confidentiality with this information collection.

Needs and Uses: This submission was made to the Office of Management (OMB) for the approval of information collection requirements contained in the Commission's Reexamination of the Comparative Standards and Procedures for Licensing Noncommercial Educational Broadcast Stations and Low Power FM Stations, Report and Order, FCC 19-127, 34 FCC Rcd 12519 (2019) (NCE LPFM Report and Order), adopted December 10, 2019, and released on December 11, 2019, where the Commission revised its rules and procedures for considering competing applications for new and major modifications to noncommercial educational full-service FM and full-power television (NCE), and low power FM (LPFM) broadcast stations. The changes are designed to improve the comparative selection and licensing procedures, expedite the initiation of new service to the public, eliminate unnecessary applicant burdens, and reduce the number of appeals of NCE comparative licensing decisions.

First, to improve the NCE comparative process, the NCE LPFM Report and Order: (1) Eliminates the governing document requirements for established local applicants and applicants claiming diversity points; (2) establishes a uniform divestiture pledge policy; (3) expands the tie-breaker criteria and revises the procedures for allocating time in mandatory time-sharing situations; and (4) clarifies and modifies the “holding period” rule.

Second, the NCE LPFM Report and Order adopts the following changes to the LPFM comparative process: (1) Prohibits amendments that attempt to cure past unauthorized station violations; (2) authorizes time-sharing discussions prior to tentative selectee designations; and (3) establishes procedures for remaining tentative selectees following dismissal of point aggregation time-share agreements.

Third, the NCE LPFM Report and Order adopts the following general changes: (1) Defines which applicant board changes are major changes; (2) clarifies the reasonable site assurance requirements; (3) streamlines construction deadline tolling procedures and notification requirements; (4) lengthens the LPFM construction period; and (5) eliminates restrictions on the assignment and transfer of LPFM authorizations.

Specifically, pertaining to this Information Collection and LPFM stations, the Commission is revising the relevant rules, 47 CFR 73.872, the form, and corresponding instructions, as follows:

(1) Adding a Reasonable Site Assurance Certification in the Technical Certifications Section of the form, requiring the applicant to certify that it has obtained reasonable assurance from the tower owner or authorized representative, that its specified site will be available. The revisions to the relevant rules, and the changes to the questions in Schedule 318 listed above affect the substance, burden hours, and costs of completing the Schedule 318. Therefore, this submission was made to OMB for approval of revised Information Collection requirements. On May 12, 2020, the Commission adopted Amendment of Section 73.3580 of the Commission's Rules Regarding Public Notice of the Filing of Applications; Modernization of Media Regulation Initiative; Revision of the Public Notice Requirements of Section 73.3580, Second Report and Order, MB Docket Nos. 17-254, 17-105, & 05-6, FCC 20-65 (rel. May 13, 2020). The Commission adopted new, streamlined procedures for stations to provide public notice of the filing of certain applications. Stations, including stations filing for new construction permits or major modifications to facilities, that were previously required to post public notice in a local newspaper, must now post notice online, either on the station website or a website affiliated with the station, its licensee, or its parent entity, or else must post notice on a publicly accessible, locally targeted website, for 30 continuous days following acceptance of the application for filing. Stations that are required to make on-air announcements of the filing of certain applications, must continue to do so, but the announcements are shorter and direct viewers and listeners to the application as filed and displayed in either the station's Online Public Inspection File or another Commission database. A total of six on-air announcements are required, at least one per week and no more than one per day or two per week, to be broadcast between 7:00 a.m. and 11:00 p.m. local time, Monday through Friday, beginning after the application is accepted for filing. The Commission also clarified LPFM stations' obligations to provide local public notice, and amended section 73.801 of the rules (47 CFR 73.801, listing FCC rules that apply to the LPFM service) to include the local public notice rule, 47 CFR 73.3580.

This submission was made to OMB for approval of the modified third-party disclosure requirements for this Information Collection, as adopted in the 2020 Public Notice Second Report and Order. The changes pertaining to this Information Collection and to 47 CFR 73.3580 adopted in the 2020 Public Notice Second Report and Order, do not necessitate changes to the Schedule 318, nor do they affect the substance, burden hours, or costs of completing the forms. The rule changes do, however, reduce burdens and costs associated with filing the application.

In April 2020, the Commission adopted a Report and Order making certain changes to the LPFM technical rules, to improve reception and increase flexibility while maintaining interference protection and the core LPFM goals of diversity and localism. Amendments of Parts 73 and 74 to Improve the Low Power FM Radio Service Technical Rules; Modernization of Media Regulation Initiative, Report and Order, MB Docket Nos. 19-193, 17-105, FCC 20-53 (rel. Apr. 23, 2020)(2020 Technical Report and Order).

LPFM stations provide a secondary, noncommercial radio service with a community focus. The Commission originally designed LPFM engineering requirements to be simple so that non-profit organizations with limited engineering expertise and small budgets could readily apply for, construct, and operate community-oriented stations serving highly localized areas. LPFM organizations suggested that the service has matured and requires additional engineering options to improve reception. Thus, the 2020 Technical Report and Order adopted the following rules: Allow expanded LPFM use of directional antennas. All LPFM stations may use directional facilities, with either off-the-shelf or composite antennas, upon a satisfactory engineering showing. Such antennas could improve service near international borders by allowing LPFM stations to serve more listeners in the United States while continuing to protect Mexican and Canadian stations.

Redefine “Minor Changes” for LPFM stations. An LPFM station may apply for approval to relocate its transmitter site without awaiting a filing window if the change is “minor,” redefined in the 2020 Technical Report and Order as a move of 11.2 kilometers or less. The 2020 Technical Report and Order also allowed proposals of greater distances to qualify as minor if the existing and proposed service contours overlap.

Permit LPFM Use of FM Booster Stations. FM booster stations amplify and retransmit a station's signal. The 2020 Technical Report and Order amended rules that had prohibited LPFM stations from operating booster stations, allowing LPFM stations to operate an FM booster in lieu of an FM translator when a booster would better address unique terrain challenges.

Allow Shared Emergency Alert System (EAS) Equipment. Co-owned, co-located radio stations can share EAS equipment, but this option was not available to LPFM stations because they cannot be co-owned. The 2020 Technical Report and Order permitted co-located LPFM stations (particularly those in time-share arrangements) to share an EAS decoder pursuant to an agreement for common access as well as common responsibility for any EAS rule violations, thus potentially reducing costs.

Facilitate Waivers of Requirement to Protect Television Stations Operating on Channel 6. Stations on the part of the FM band reserved for NCE use must currently protect adjacent television stations on Channel 6 (TV6). The 2020 Technical Report and Order deferred to a future proceeding consideration of a proposal to eliminate the protection of digital television stations operating on TV6. The 2020 Technical Report and Order stated that until such a proceeding is resolved, the Commission will accept FM proposals that are short-spaced to TV6 if the FM applicant demonstrates no interference. Alternatively, the 2020 Technical Report and Order added language to the rules allowing reserved band radio stations to provide an agreement indicating the concurrence of all potentially affected digital TV6 stations.

Miscellaneous Changes. The 2020 Technical Report and Order added language to 47 CFR 73.850 requiring LPFM stations to notify the Commission if they are silent for ten days and to seek authority for silent periods over 30 days, as required for all other broadcasters, thus codifying a longstanding policy that the Bureau already applies to the LPFM service that allows it to identify and assist LPFM stations at risk of losing their licenses automatically under section 312(g) of the Communications Act. The 2020 Technical Report and Order also made several non-substantive changes to remove duplicative and out-of-date information.

Specifically, pertaining to this Information Collection and LPFM stations, the Commission is revising the relevant rules, 47 CFR 73.816, 73.850, and 73.870, the form, and corresponding instructions, as follows:

(1) Adding an Antenna Type question in the Technical Certifications Section of the form, requiring the applicant to describe the proposed antenna type (directional or non-directional). Applicants proposing a directional antenna (as now permitted by section 73.816) must complete a data table, providing relative field values for every 10 degrees on the unit circle.

(2) Modifying section 73.850 to clarify that LPFM stations must, like other broadcast stations, notify the Commission if they temporarily stop broadcasting. The rules require radio stations to notify the Commission within 10 days of temporarily discontinuing operations and to obtain Commission authorization if the discontinued operations last beyond 30 days.

(3) Redefining the types of LPFM facility changes that qualify as “minor” (in section 73.870), to provide additional flexibility for LPFM stations to relocate their facilities.

The revisions to the relevant rules, and the changes to the questions in Schedule 318 listed above affect the substance, burden hours, and costs of completing the Schedule 318. Therefore, this submission was made to OMB for approval of revised Information Collection requirements.

OMB Control No.: 3060-0932.

OMB Approval Date: October 7, 2020.

OMB Expiration Date: October 31, 2023.

Title: FCC Form 2100, Application for Media Bureau Audio and Video Service Authorization, Schedule E (Former FCC Form 301-CA); 47 CFR Sections 73.3700(b)(1)(i)-(v) and (vii), (b)(2)(i) and (ii); 47 CFR Section 73.6028; 47 CFR Section 74.793(d).

Form No.: FCC Form 2100, Schedule E (Application for Media Bureau Audio and Video Service Authorization) (Former FCC Form 301-CA).

Respondents: Business or other for-profit entities; Not for profit institutions; State, Local or Tribal Government.

Number of Respondents and Responses: 745 respondents and 745 responses.

Estimated Time per Response: 2.25 hours-6 hours.

Frequency of Response: One-time reporting requirement; On occasion reporting requirement; Third party disclosure requirement.

Obligation To Respond: Required to obtain or retain benefits. The statutory authority for this collection is contained in 47 U.S.C. 151, 154(i), 157 and 309(j) as amended; Middle Class Tax Relief and Job Creation Act of 2012, Public Law 112-96, 6402 (codified at 47 U.S.C. 309(j)(8)(G)), 6403 (codified at 47 U.S.C. 1452), 126 Stat. 156 (2012) (Spectrum Act) and the Community Broadcasters Protection Act of 1999.

Total Annual Burden: 6,146 hours.

Annual Cost Burden: $4,334,902.

Privacy Act Impact Assessment: No impact(s).

Nature and Extent of Confidentiality: There is no need for confidentiality with this collection of information.

Needs and Uses: FCC Form 2100, Schedule E (formerly FCC Form 301-CA) is to be used in all cases by a Class A television station licensee seeking to make changes in the authorized facilities of such station. FCC Form 2100, Schedule E requires applicants to certify compliance with certain statutory and regulatory requirements. Detailed instructions on the FCC Form 2100, Schedule E provide additional information regarding Commission rules and policies. FCC Form 2100, Schedule E is presented primarily in a “Yes/No” certification format. However, it contains appropriate places for submitting explanations and exhibits where necessary or appropriate. Each certification constitutes a material representation. Applicants may only mark the “Yes” certification when they are certain that the response is correct. A “No” response is required if the applicant is requesting a waiver of a pertinent rule and/or policy, or where the applicant is uncertain that the application fully satisfies the pertinent rule and/or policy. FCC Form 2100, Schedule E filings made to implement post-auction channel changes will be considered minor change applications.

Class A applications for a major change are subject to third party disclosure requirement of Section 73.3580, which requires local public notice that the application has been accepted for filing. Notice is given by an applicant posting notice of the application filing on its station website, its licensee website, its parent entity website, or on a publicly accessible, locally targeted website, for 30 consecutive days beginning within five business days of acceptance of the application for filing. The online notice must link to a copy of the application as filed in the Commission's LMS licensing database.

On May 12, 2020, the Commission adopted Amendment of Section 73.3580 of the Commission's Rules Regarding Public Notice of the Filing of Applications; Modernization of Media Regulation Initiative; Revision of the Public Notice Requirements of Section 73.3580, Second Report and Order, MB Docket Nos. 17-254, 17-105, & 05-6, FCC 20-65 (rel. May 13, 2020). The Commission adopted new, streamlined procedures for stations to provide public notice of the filing of certain applications. Stations, including Class A television stations filing for new construction permits or major modifications to facilities, that were previously required to post public notice in a local newspaper, must now post notice online, either on the station website or a website affiliated with the station, its licensee, or its parent entity, or else must post notice on a publicly accessible, locally targeted website, for 30 continuous days following acceptance of the application for filing.

This submission was made to OMB for approval of the modified third-party disclosure requirements for this Information Collection, as adopted in the 2020 Public Notice Second Report and Order. The changes pertaining to this Information Collection and to 47 CFR 73.3580 adopted in the 2020 Public Notice Second Report and Order do not necessitate changes to the Form 2100, Schedule E, nor do they affect the substance, burden hours, or costs of completing the forms. The rule changes do, however, reduce burdens and costs associated with filing the application.

OMB Control Number: 3060-1133.

OMB Approval Date: October 7, 2020.

OMB Expiration Date: October 31, 2023.

Title: Application for Permit to Deliver Programs to Foreign Broadcast Stations (FCC Form 308); 47 CFR Sections 73.3545 and 73.3580.

Form No.: FCC Form 308.

Respondents: Business or other for-profit entities.

Number of Respondents and Responses: 26 respondents; 48 responses.

Estimated Time per Response: 0.5 hours-2 hours.

Obligation To Respond: Required to obtain or retain benefits. The statutory authority for this collection is contained in Section 325(c) of the Communications Act of 1934, as amended.

Total Annual Burden: 40 hours.

Annual Cost Burden: $18,642.

Privacy Act Impact Assessment: No impact(s).

Nature and Extent of Confidentiality: In general, there is no need for confidentiality with this collection of information.

Needs and Uses: On May 12, 2020, the Commission adopted Amendment of Section 73.3580 of the Commission's Rules Regarding Public Notice of the Filing of Applications; Modernization of Media Regulation Initiative; Revision of the Public Notice Requirements of Section 73.3580, Second Report and Order, MB Docket Nos. 17-254, 17-105, & 05-6, FCC 20-65 (rel. May 13, 2020). The Commission adopted new, streamlined procedures for stations to provide public notice of the filing of certain applications. Stations, including stations filing FCC Form 308, that were previously required to post public notice in a local newspaper, must now post notice online, either on the station website or a website affiliated with the station, its licensee, or its parent entity, or else must post notice on a publicly accessible, locally targeted website, for 30 continuous days following acceptance of the application for filing.

This was made to OMB for approval of the modified third-party disclosure requirements for this Information Collection, as adopted in the 2020 Public Notice Second Report and Order. The changes pertaining to this Information Collection and to 47 CFR 73.3580 adopted in the 2020 Public Notice

Second Report and Order do not necessitate changes to FCC Form 308, nor do they affect the substance, burden hours, or costs of completing the forms. The rule changes do, however, reduce burdens and costs associated with filing the application.

Federal Communications Commission.
Marlene Dortch,
Secretary, Office of the Secretary.

[FR Doc. 2020-23441 Filed 10-28-20; 8:45 am]

BILLING CODE 6712-01-P